DEPARTMENT OF HEALTH AND HUMAN SERVICES

Health Resources and Services Administration

Agency Information Collection Activities: Submission to OMB for Review and Approval; Public Comment Request; Rural Health Network Development Planning Performance Improvement and Measurement System Database, OMB No. 0915-0384—Revision

AGENCY: Health Resources and Services Administration (HRSA), Department of Health and Human Services (HHS).

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than May 28, 2020.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Rural Health Network Development Planning Performance Improvement and Measurement System Database, OMB No. 0915-0384—Revision

Abstract: The purpose of the Rural Health Network Development Planning (Network Planning) program is to assist in the development of an integrated health care network, specifically for entities that do not have a history of formal collaborative efforts. Health care networks can be an effective strategy to help smaller rural health care providers and health care service organizations align resources, achieve economies of scale and efficiency, and address challenges more effectively as a group than as single providers. The Network Planning program promotes the planning and development of healthcare networks in order to: (1) Achieve efficiencies; (2) expand access to, coordinate, and improve the quality of essential health care services; and (3) strengthen the rural health care system as a whole.

The proposed change to this package includes the addition of the “Ending the HIV Epidemic (EHE): A Plan for America” initiative, a multi-year HHS initiative to end the HIV epidemic in the United States within 10 years. The purpose of the EHE Network Planning program is targeted to the seven states (Alabama, Arkansas, Kentucky, Mississippi, Missouri, Oklahoma and South Carolina) with a disproportionate number of HIV diagnoses in rural areas, to assist in the development of an integrated health network for HIV care and treatment, specifically with network participants who do not have a history of formal collaborative efforts. EHE Network Planning aims are: (i) To achieve efficiencies; (ii) to expand access to, coordinate, and improve the quality of essential health care services; and (iii) to strengthen the rural health care system as a whole.

To address the aims of the EHE Network Planning program, applicants must describe planning activities that support at least one of the four key strategies specified in the `Ending the HIV Epidemic: A Plan for America' initiative: (i) Diagnose; (ii) Treat; (iii) Prevent; and (iv) Respond. Performance measures for the EHE Network Planning Program serve the purpose of quantifying awardee-level data that conveys the successes and challenges associated with the grant award. These measures and aggregate data substantiate and inform the focus and objectives of the grant program.

A 60-day notice was published in the Federal Register on August 26, 2019, vol. 84, No. 165; pp. 44626-27. There were no public comments. The scope of this request was subsequently expanded to include the EHE Network Planning Program which, similar to the Network Planning Program, focuses on building rural health care network capacity. The EHE Network Planning Program specifically addresses HIV related health service delivery in response to the Administration's 'Ending the HIV Epidemic' Initiative.

Need and Proposed Use of the Information: This data collection provides HRSA with information on how well each grantee is meeting the needs of implementing the Network Planning and EHE Network Planning and development activities in a rural setting. Grantees of the EHE Network Planning program will be reporting on the performance measures from the current Network Planning PIMS measures.

The type of information requested in the Network Planning and EHE Network Planning PIMS enables HRSA to assess the following characteristics about its programs:

• The types and number of organizations in the consortium or network.

• The types of collaboration and/or integration among the network members.

• The contribution by network members and the network's sustainability efforts.

• The network's assessment of effectiveness and during the project period.

The respondents for these measures are Network Planning and EHE Network Planning award recipients.

If this information is not collected, HRSA would be unable to measure effective use of grant dollars to report on progress toward strategic goals and objectives of the Network Planning and EHE Network Planning Programs.

Likely Respondents: The respondents for these measures are Network Planning and EHE Network Planning award recipients.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours—Network Planning Program
Form name | Number of respondents | Number of responses per respondent | Total responses | Average burden per response (in hours) | Total burden hours
Rural Health Network Development Planning Program Performance Improvement Measurement System | 21 | 1 | 21 | 1 | 21
Total | 21 |  | 21 |  | 21

Total Estimated Annualized Burden—Hours—EHE Network Planning Program
Form name | Number of respondents | Number of responses per respondent | Total responses | Average burden per response (in hours) | Total burden hours
EHE Network Planning Grantee key personnel (Project Director) | 10 | 1 | 10 | 1 | 10
Total | 10 |  | 10 |  | 10

Maria G. Button,
Director, Executive Secretariat.

[FR Doc. 2020-08967 Filed 4-27-20; 8:45 am]

BILLING CODE 4165-15-P